NUCLEAR REGULATORY COMMISSION

10 CFR Part 73

Training and Qualification of Security Personnel at Nuclear Power Reactor Facilities; Issuance of Draft Regulatory Guide

AGENCY: Nuclear Regulatory Commission.

ACTION: Issuance, Availability of Draft Regulatory Guide (DG).

SUMMARY: The Nuclear Regulatory Commission (NRC) has issued for public comment a draft guide in the agency's “Regulatory Guide” series (DG-5015).

DATES: The comment period closes on February 25, 2008. Comments received after that date will be considered if it is practical to do so, but the NRC is able to ensure consideration only for comments received on or before this date. Although a time limit is given, comments and suggestions in connection with items for inclusion in guides currently being developed or improvements in all published guides are encouraged at any time.

FOR FURTHER INFORMATION CONTACT: Dennis Gordon, U.S. Nuclear Regulatory Commission, Washington, DC 20555-0001, phone: (301) 415-6671 or e-mail DXG@nrc.gov.

SUPPLEMENTARY INFORMATION:

I. Introduction

The NRC has issued for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide, entitled, “Training and Qualification of Security Personnel at Nuclear Power Reactor Facilities,” is temporarily identified by its task number, DG-5015, which should be mentioned in all related correspondence. DG-5015 provides an approach acceptable to the NRC for the training and qualification of security personnel at nuclear power reactor facilities. Title 10 of the Code of Federal Regulations Part 73 (10 CFR part 73), “Physical Protection of Plants and Materials,” § 73.55, “Requirements for physical protection of licensed activities in nuclear power reactors against radiological sabotage,” paragraph (c)(4), requires NRC nuclear power reactor licensees to establish, maintain and follow a Commission-approved training and qualification plan that describes how the criteria set forth in Appendix B to 10 CFR part 73, “General Criteria for Security Personnel,” Section VI, “Nuclear Power Reactor Training and Qualification Plan” will be implemented. Consistent with the requirements of 10 CFR 73.55(d)(5)(i) and Appendix B to 10 CFR part 73, Section VI, paragraph A.2, the licensee is responsible for ensuring that security personnel are adequately trained, equipped, and qualified to effectively perform their assignments and implement the site physical protection program through site-specific security measures, management controls, and protective strategies in a manner that satisfies Commission requirements and provides high assurance of public health and safety, protection of the environment, and common defense and security.

DG-5015 contains draft guidance on how licensees should select, train, equip, test, qualify, and re-qualify armed and unarmed security personnel, watchpersons, and other members of the security organization to ensure that these individuals possess and maintain the knowledge, skills, and abilities required to carry out their assigned duties and responsibilities effectively. The approaches and examples described in DG-5015 would provide one methodology for satisfying the Commission requirements in Appendix B, Section VI, for the training and qualification of security personnel at nuclear power reactor facilities to include: (1) Minimum requirements for employment suitability and qualification; (2) minimum physical qualifications; (3) minimum psychological qualifications; (4) re-qualification of personnel; (5) duty and on-the-job training; (6) weapons and tactical response training and exercises; (7) demonstration of individual capabilities and qualifications; (8) readiness of security personnel to perform assignments; (9) maintenance of equipment and program records; and (10) the conduct of self audits and reviews.

DG-5015 would be applicable to operating reactors licensed in accordance with 10 CFR parts 50 and 52. Power reactor licensees and applicants subject to the requirements of 10 CFR 73.55 must comply only with the requirements in Appendix B to 10 CFR part 73, Section VI, and should consider the draft guidance in developing and implementing a site-specific training and qualification program. Applicants for an operating license should also consider this guidance in preparing an application for a combined license (COL) under 10 CFR part 52.

DG-5015 is based on the proposed rule, “Power Reactor Security Requirements,” which was published in the Federal Register, 71 FR 62664, on Thursday, October 26, 2006. The proposed rule should be considered during review of the draft guide.

II. Further Information

The NRC staff is soliciting comments on DG-5015. Comments may be accompanied by relevant information or supporting data, and should mention DG-5015 in the subject line. Comments submitted in writing or in electronic form will be made available to the public in their entirety through the NRC's Agencywide Documents Access and Management System (ADAMS). Personal information will not be removed from your comments. You may submit comments by any of the following methods:

1. Mail comments to: Rulemaking, Directives, and Editing Branch, Office of Administration, U.S. Nuclear Regulatory Commission, Washington, DC 20555-0001.

2. E-mail comments to: NRCREP@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-5015 may be directed to the NRC Senior Program Manager, Dennis Gordon at (301) 415-6671 or e-mail at DXG@nrc.gov.

Electronic copies of DG-5015 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML073550020. In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 3rd day of January, 2008.
For the Nuclear Regulatory Commisison.
Andrea Valentin,
Chief, Regulatory Guide Development Branch, Division of Engineering, Office of Nuclear Regulatory Research.

[FR Doc. E8-535 Filed 1-14-08; 8:45 am]

BILLING CODE 7590-01-P